FEDERAL MARITIME COMMISSION

Sunshine Act: Notice of Meeting

AGENCY HOLDING THE MEETING: Federal Maritime Commission.

TIME AND DATE: 10 a.m., November 19, 2003.

PLACE: 800 North Capitol Street, NW., First Floor Hearing Room, Washington, DC.

STATUS: Open.

MATTERS TO BE CONSIDERED: 1. Docket No. 99-13—The Content of Ocean Common Carrier and Marine Terminal Operator Agreements Subject to the Shipping Act of 1984; Proposed Revisions to the Commission's Regulations Regarding the Filing of Agreement Minutes, 46 CFR 535; Proposed Modifications to the Information Form and Monitoring Report Regulations, 46 CFR parts 501 and 535; Proposed Rulemaking Regarding Transshipment Agreements Under the Shipping Act of 1984.

FOR FURTHER INFORMATION CONTACT: Bryant L. VanBrakle, Secretary, (202) 523-5725.

Bryant L. VanBrakle
Secretary.

[FR Doc. 03-28433 Filed 11-7-03; 8:45 am]

BILLING CODE 6730-01-M